DEPARTMENT OF COMMERCE

Foreign-Trade Zones Board

[B-73-2019]

Foreign-Trade Zone (FTZ) 18—San Jose, California; Authorization of Production Activity; Tesla, Inc. (Electric Passenger Vehicles and Components), Fremont, Livermore, and Oakland, California

On November 26, 2019, Tesla, Inc. submitted a notification of proposed production activity to the FTZ Board for its facilities within Subzone 18G, in Fremont, Livermore, and Oakland, California.

The notification was processed in accordance with the regulations of the FTZ Board (15 CFR part 400), including notice in the Federal Register inviting public comment (84 FR 66651, December 5, 2019). On March 25, 2020, the applicant was notified of the FTZ Board's decision that no further review of the activity is warranted at this time. The production activity described in the notification was authorized, subject to the FTZ Act and the FTZ Board's regulations, including Section 400.14.

Dated: March 25, 2020.
Andrew McGilvray,
Executive Secretary.

[FR Doc. 2020-06637 Filed 3-30-20; 8:45 am]

BILLING CODE 3510-DS-P